DEPARTMENT OF COMMERCE

National Oceanic and Atmospheric Administration

[RTID 0648-XC291]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold online and in-person public meetings.

DATES: The Pacific Council and its advisory entities will meet September 6-14, 2022 in Boise, ID. The Pacific Council meeting will begin on Friday, September 9, 2022, at 8 a.m. Mountain Time (MT), reconvening at 8 a.m. on Saturday, September 10 through Wednesday, September 14, 2022. All meetings are open to the public, except for a Closed Session held from 8 a.m. to 9 a.m., Friday, September 9, to address national security matters, international negotiations, litigation, or personnel matters including appointments to advisory bodies. The Pacific Council will meet as late as necessary each day to complete its scheduled business. The Pacific Council meeting will be held in a hybrid of remote and in-person participation. The Pacific Council's Budget Committee and groundfish and highly migratory species advisory entities will meet in-person in Boise. All other advisory entities will meet by webinar only.

ADDRESSES:

Meeting address: Meetings of the Pacific Council and its groundfish and highly migratory species advisory entities will be held at the Riverside Hotel, 2900 Chinden Boulevard, Boise, ID 83714; telephone: (208) 343-1871.

Meetings will be held in-person and online. Specific meeting information, including directions on joining meetings, connecting to the live stream broadcast, and system requirements will be provided in the meeting materials on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The September 2022 meeting of the Pacific Council will be streamed live on the internet. The broadcasts begin initially at 9 a.m. MT Friday, September 9, 2022, and through Wednesday, September 14, 2022. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance briefing materials and posted on the Pacific Council website at www.pcouncil.org no later than Friday, August 19, 2022.

A. Call to Order

1. Opening Remarks

2. Roll Call

3. Executive Director's Report

4. Approve Agenda

B. Open Comment Period

1. Comments on Non-Agenda Items

C. Administrative Matters

1. Research and Data Needs

2. Equity and Environmental Justice

3. Council Meeting and Process Efficiencies

4. Marine Planning

5. Fiscal Matters

6. Approval of Council Meeting Record

7. Membership Appointments and Council Operating Procedures

8. Future Council Meeting Agenda and Workload Planning

D. Salmon Management

1. Methodology Review—Final Topic Selection and Update on Model Improvements

E. Pacific Halibut Management

1. 2023 Catch Sharing Plan and Annual Regulations

2. Commercial-Directed Fishery Regulations for 2023

F. Habitat Issues

1. Current Habitat Issues

G. Groundfish Management

1. National Marine Fisheries Service Report

2. Workload and New Management Measure Update

3. Electronic Monitoring Update

4. Methodology Review—Preliminary Fishery Impact Model Topics and Final Assessment Methodologies

5. Stock Definitions—Update

6. Non-Trawl Area Management

7. Stock Assessment Check-In and Plan—Final Action

8. Trawl Catch Share Program—Cost Project

9. Trawl Catch Share Program and Inter-Sector Allocation Review—Planning

10. Inseason Adjustments—Final Action

H. Ecosystem Management

1. Fishery Ecosystem Plan Initiatives Appendix and New Initiative

2. Western Regional Action Plan

I. Highly Migratory Species Management

1. National Marine Fisheries Service Report

2. International Management Activities

3. Exempted Fishing Permits—Final Action

4. Biennial Harvest Specifications and Management Measures—Preliminary

5. Swordfish Management and Monitoring Plan

Advisory Body Agendas

Advisory body agendas will include discussions of relevant issues that are on the Pacific Council agenda for this meeting and may also include issues that may be relevant to future Council meetings. Proposed advisory body agendas for this meeting will be available on the Pacific Council website, www.pcouncil.org, no later than Friday, August 19, 2022.

Schedule of Ancillary Meetings—All Times Mountain Time

Day 1—Tuesday, September 6, 2022

Scientific and Statistical Committee 9 a.m.

Day 2—Wednesday, September 7, 2022

Salmon Technical Team 9 a.m.

Scientific and Statistical Committee 9 a.m.

Day 3—Thursday, September 8, 2022

Groundfish Advisory Subpanel 8 a.m.

Groundfish Management Team 8 a.m.

Ecosystem Advisory Subpanel 9 a.m.

Habitat Committee 9 a.m.

Scientific and Statistical Committee 9 a.m.

Enforcement Consultants 10 a.m.

Budget Committee 1 p.m.

Day 4—Friday, September 9, 2022

California State Delegation 7 a.m.

Oregon State Delegation 7 a.m.

Washington State Delegation 7 a.m.

Groundfish Advisory Subpanel 8 a.m.

Groundfish Management Team 8 a.m.

Ecosystem Advisory Subpanel 9 a.m.

Habitat Committee 9 a.m.

Enforcement Consultants As Necessary

Day 5—Saturday, September 10, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 6—Sunday, September 11, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 7—Monday, September 12, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants As Necessary

Day 8—Tuesday, September 13, 2022

California State Delegation 7 a.m.

Oregon State Delegation 7 a.m.

Washington State Delegation 7 a.m.

Highly Migratory Species Advisory Subpanel 8 a.m.

Highly Migratory Species Management Team 8 a.m.

Enforcement Consultants As Necessary

Day 9—Wednesday, September 14, 2022

California State Delegation 7 a.m.

Oregon State Delegation 7 a.m.

Washington State Delegation 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: August 17, 2022.
Rey Israel Marquez,
Acting Deputy Director, Office of Sustainable Fisheries, National Marine Fisheries Service.

[FR Doc. 2022-18058 Filed 8-19-22; 8:45 am]

BILLING CODE 3510-22-P